DEPARTMENT OF COMMERCE

National Oceanic and Atmospheric Administration

50 CFR Part 660

[Docket No. 090324366-9371-01]

RIN 0648-XR27

Fisheries Off West Coast States; Modifications of the West Coast Commercial and Recreational Salmon Fisheries; Inseason Actions #4, #5, #6, and #7

AGENCY: National Marine Fisheries Service (NMFS), National Oceanic and Atmospheric Administration (NOAA), Commerce.

ACTION: Modification of fishing seasons, gear restrictions, and landing and possession limits; request for comments.

SUMMARY: NOAA Fisheries announces four inseason actions in the ocean salmon fisheries. Inseason actions #4, #6, and #7 modified the recreational fishery in the area from the U.S./Canada Border to Cape Falcon, Oregon. Inseason action #5 modified the commercial fishery in the area from the U.S./Canada Border to Cape Falcon, Oregon.

DATES: Inseason actions #4 and #5 were effective on August 1, 2009, and remain in effect until the closing date or attainment of the subarea quotas, whichever was first, as announced in the 2009 annual management measures or through additional inseason action. Inseason action #6 was effective on August 14, 2009, and remains in effect until the closing date or attainment of the subarea quotas, whichever was first, as announced in the 2009 annual management measures or through additional inseason action. Inseason action #7 was effective on August 21, 2009, and remains in effect until the closing date or attainment of the subarea quotas, whichever was first, as announced in the 2009 annual management measures or through additional inseason action. Comments will be accepted through November 23, 2009.

ADDRESSES: You may submit comments, identified by 0648-XR27, by any one of the following methods:

• Electronic Submissions: Submit all electronic public comments via the Federal eRulemaking Portal http://www.regulations.gov

• Fax: 206-526-6736, Attn: Peggy Busby

• Mail: 7600 Sand Point Way NE, Building 1, Seattle, WA 98115

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Peggy Busby, by phone at 206-526-4323.

SUPPLEMENTARY INFORMATION: In the 2009 annual management measures for ocean salmon fisheries (74 FR 20610, May 5, 2009), NMFS announced the commercial and recreational fisheries in the area from the U.S./Canada Border to the U.S./Mexico Border, beginning May 1, 2009.

The Regional Administrator (RA) consulted with representatives of the Pacific Fishery Management Council, Washington Department of Fish and Wildlife and Oregon Department of Fish and Wildlife on July 31, August 14, and August 20, 2009. The information considered related to catch to date and Chinook and coho catch rates compared to quotas and other management measures established preseason.

Inseason action #4 increased the recreational daily catch limit for Chinook salmon in the area from the U.S./Canada Border to Cape Falcon, Oregon from 1 to 2 Chinook salmon. This action was taken to provide greater access to Chinook salmon that were available for harvest within the guideline established preseason. On July 31, 2009, the states recommended this action and the RA concurred; inseason action #4 took effect on August 1, 2009, until it is modified by any subsequent inseason actions. Modification in quota and/or fishing seasons is authorized by regulations at 50 CFR 660.409 (b)(1)(i) .

Inseason action #5 modified the commercial quota for Chinook salmon in the area from the U.S./Canada Border to Cape Falcon, Oregon by rolling over 2,500 in unharvested Chinook salmon quota from the May/June fishery and adding it to the guideline for the July/September fishery, raising the July/September guideline from 6,765 to 9,665 Chinook salmon. This action was taken to provide greater access to harvestable Chinook salmon. On July 31, 2009 the states recommended this action and the RA concurred; inseason action #5 took effect on August 1, 2009, until it is modified by any subsequent inseason actions. Modification in quota and/or fishing seasons is authorized by regulations at 50 CFR 660.409 (b) (1) (i).

Inseason action #6 modified the recreational quota in the area from the U.S./Canada Border to Cape Falcon, Oregon by transferring quota among subareas; 2,500 coho were transferred from the quotas of each of the Neah Bay subarea (U.S./Canada Border to Cape Alava, Washington) and the Westport subarea (Queets River, Washington to Leadbetter Point, Washington) to the quota for the LaPush subarea (Cape Alava, Washington to Queets River, Washington). This action was taken to distribute remaining quota among the subareas to allow fishing to continue in the LaPush subarea. On August 13, the states recommended this action and the RA concurred; inseason action #6 took effect on August 14, 2009, until it is modified by any subsequent inseason actions. Modification in quota and/or fishing seasons is authorized by regulations at 50 CFR 660.409 (b) (1) (i).

Inseason action #7 modified the recreational quota in the area from the U.S./Canada Border to Cape Falcon, Oregon by transferring quota between subareas; 8,750 coho were transferred from the quota of the Westport subarea (Queets River, Washington to Leadbetter Point, Washington); the Columbia River subarea (Leadbetter Point, Washington to Cape Falcon, Oregon) received an impact neutral quota increase of 8,300 coho. This action was taken to distribute remaining quota between subareas to allow fishing to continue in the Columbia River subarea. On August 20, 2009, the states recommended this action and the RA concurred; inseason action #7 took effect on August 21, 2009, until it is modified by any subsequent inseason actions. Modification in quota and/or fishing seasons is authorized by regulations at 50 CFR 660.409 (b)(1)(i).

All other restrictions and regulations remain in effect as announced for the 2009 Ocean Salmon Fisheries and previous inseason actions.

The RA determined that the best available information indicated that the catch and effort data, and projections, supported the above inseason actions recommended by the states. The states manage the fisheries in state waters adjacent to the areas of the U.S. exclusive economic zone in accordance with these Federal actions. As provided by the inseason notice procedures of 50 CFR 660.411, actual notice of the described regulatory actions was given, prior to the date the action was effective, by telephone hotline number 206-526-6667 and 800-662-9825, and by U.S. Coast Guard Notice to Mariners broadcasts on Channel 16 VHF-FM and 2182 kHz. These actions do not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (73 FR 23971, May 1, 2008; 74 FR 20610, May 5, 2009), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to allow fishers access to the available fish at the time the fish were available. The AA also finds good cause to waive the 30-day delay in effectiveness required under U.S.C. 553(d)(3), as a delay in effectiveness of these actions would allow fishing at levels inconsistent with the goals of the Salmon Fishery Management Plan and the current management measures.

These actions are authorized by 50 CFR 660.409 and 660.411 and are exempt from review under Executive Order 12866.

Authority: 16 U.S.C. 1801 et seq.

Dated: November 3, 2009.
Emily H. Menashes,
Acting Director, Office of Sustainable Fisheries, National Marine Fisheries Service.

[FR Doc. E9-26846 Filed 11-5-09; 8:45 am]

BILLING CODE 3510-22-S